DEPARTMENT OF THE INTERIOR

Minerals Management Service

Announcement of Posting of Invitation for Bids on Crude Oil From Federal Leases and State of Wyoming Properties in Wyoming

AGENCY: Minerals Management Service, Interior.

ACTION: Notice of invitation for bids on Federal and State of Wyoming crude oil in the State of Wyoming.

SUMMARY: The Minerals Management Service (MMS), in cooperation with the State of Wyoming (State), will post on MMS's Internet Home Page and make available in hard copy a public competitive offering of approximately 5,100 barrels per day (bpd) of crude oil, to be taken as royalty-in-kind (RIK) from a combination of Federal and State properties in Wyoming's Bighorn and Powder River Basins through an Invitation For Bids (IFB), Number 1435-02-01-RP-40342.

DATES: The IFB will be posted on MMS's Internet Home Page on or about January 30, 2001. Bids will be due for both MMS and the State at the posted receipt location on or about February 15, 2001. MMS and the State will notify successful bidders on or about February 20, 2001. The Federal Government and the State will begin actual taking of awarded royalty oil volumes for delivery to successful bidders for a 6-month period beginning April 1, 2001.

ADDRESSES: The IFB will be posted on MMS's Home page at http://www.mrm.mms.gov under the navigation button “Royalty In Kind”. The IFB may also be obtained by contacting Mr. Todd Leneau at the address in the FOR FURTHER INFORMATION CONTACT section below. Bids should be submitted to the address provided in the IFB.

FOR FURTHER INFORMATION CONTACT: For additional information concerning the IFB document, terms, and process for Federal leases, contact Mr. Todd Leneau, Minerals Management Service, MS 2730, P.O. Box 25165, Denver, CO 80225-0165; telephone number (303) 275-7385; fax (303) 275-7303; e-mail Todd.Leneau@mms.gov. For additional information concerning the IFB document, terms, and process for State of Wyoming properties, contact Mr. Harold Kemp, Office of State Lands and Investments, Herschler Building, 3rd Floor West, 122 West 25th Street, Cheyenne, WY 82002-0600; telephone number (307) 777-6643; fax: (307) 777-5400; Email: hkemp@missc.state.wy.us.

SUPPLEMENTARY INFORMATION: The offering in this IFB continues the ongoing RIK program in Wyoming. The State and MMS believe that taking oil royalties as a share of production, or RIK, from the properties offered in the IFB is a viable alternative to the agencies' usual practice of collecting oil royalties as a share of the value received by the lessee for sale of the production. Both agencies will continue to monitor the effectiveness of the RIK approach to taking crude oil royalties in Wyoming.

In the current sale under IFB No. 1435-02-00-RP-40329, the number of properties offered was a three-fold increase over properties offered in the prior sale. The new sale involves approximately 5,100 bpd of crude oil from 60 Federal and State properties located in Wyoming's Bighorn and Powder River Basins. The 60 properties in the new sale represent approximately 20 percent of the properties in the current sale. However, the volume represents approximately 90 percent of the crude oil currently being delivered to purchasers under the current sale for production months October 2000 through March 2001. The production is pipeline-connected.

The properties will be identified in the IFB by specific pipeline subgroups of Wyoming sweet crude oil, Wyoming general sour crude oil, or Wyoming asphaltic sour crude oil. Purchasers must bid on a property basis. Bids will be due as specified in the IFB on or about February 15, 2001, and successful bidders will be notified on or about February 20, 2001. Successful bidders will be required to obtain Letters of Credit, unless they can self certify to the requirements in the IFB. Details will be available in the IFB.

The following are some of the additional details regarding the offerings that will be posted in the IFB on or about January 30, 2001:

• List of specific properties;

• For each property—tract allocations, royalty rate(s), estimated average daily royalty volume, quality, current transporter, and operator;

• Bid basis;

• Reporting requirements;

• Terms and conditions; and

• Contract format.

The internet posting and availability of the IFB in hard copy are being announced in oil and gas trade journals as well as in this Federal Register notice.

Dated: January 26, 2001.
Lucy Querques Denett,
Associate Director for Minerals Revenue Management.

[FR Doc. 01-2978 Filed 2-2-01; 8:45 am]

BILLING CODE 4310-MR-W